DEPARTMENT OF AGRICULTURE

Forest Service

Establishment of Divided Mountain Purchase Unit, Grayson County, Virginia

AGENCY: Forest Service, USDA.

ACTION: Notice.

SUMMARY: On September 26, 2017 the Under Secretary of Natural Resources and the Environment created the Divided Mountain Unit. This purchase unit comprises 112.3 acres within Grayson County, Virginia. A legal description of lands within the purchase unit appears at the end of this notice.

APPLICABLE DATE: The Forest Service established this purchase unit on September 26, 2017.

ADDRESSES: A copy of the map showing the purchase unit is on file and available for public inspection in the Office of the Director, Lands Staff, First Floor-Southeast, Sidney R. Yates Federal Building, Forest Service, USDA, 201 14th Street SW, Washington, DC 20250, between the hours of 8:30 a.m. and 4:30 p.m. on business days. Those wishing to inspect the map are encouraged to call ahead to (202) 205-1248 to facilitate entry into the building.

FOR FURTHER INFORMATION CONTACT: Kevin Heikkila, Acting Director of Lands and Realty Management, by phone at 202-205-2818. Individuals who use telecommunication devices for the deaf (TDD) may call the Federal Information Relay Service (FIRS) at 1-800-877-8339 twenty-four hours a day, every day of the year, including holidays.

SUPPLEMENTARY INFORMATION: The Divided Mountain Project, legally described below, will provide additional road access into Cherokee National Forest and additional access to Pond Mountain State Game Lands. State game lands allow for recreational opportunities such as hiking, fishing, hunting, and cross country skiing. Acquisition of the Divided Mountain Tract will provide opportunities to extend these activities into the National Forest while conserving high-elevation open space, mitigating wildfire risks, protecting streams and water quality, and protecting the nearby Rogers Ridge Scenic Area viewshed.

All that tract or parcel of land lying and being situated in the Wilson Magisterial District of Grayson County, Virginia, being described as Tax Map No. 60-A-1A, being the same tract conveyed to The Conservation Fund by Warranty Deed signed September 16, 2016, and recorded on September 23, 2016, in Deed Book 599, Pages 589-591 Grayson County, Virginia Circuit Court Clerk Office; this Tract is identified as the portion of United States of America Tract U-1601 situated in Virginia. Bounded on the West by the Tennessee State Line (USA Tract U-1601), on the North by Robert Russell, on the East by Joseph Dalia, and on the South by the North Carolina State Line;

Bearings are oriented to Tennessee State Plane grid north,

Beginning on Corner 1 of USA Tract U-1601, the common corner to the States of Tennessee, Virginia and North Carolina, which is also Corner 1 of USA Tract U-137, being monumented by a brass disk in a large rock;

Thence with the Tennessee State Line (USA Tract U-1601), one (1) line;

1. N 48°16′35″ E, 2766.22 feet to Corner 4 of USA Tract U-1601, a standard Forest Service Monument situated in the Tennessee and Virginia State Line common to the lands of Russell;

Thence with the lands of Robert Russell, one (1) line;

1. S 72°28′26″ E, 1204.95 feet to Corner 5 of USA Tract U-1601, a standard Forest Service Monument common to the lands of Russell and Dalia;

Thence with the lands of Joseph Dalia, one (1) line;

1. S 29°24′20″ E, 1962.76 feet to Corner 6 of USA Tract U-1601, a standard Forest Service Monument situated in the Virginia and North Carolina State Line, common to the lands of Dalia;

Thence with the North Carolina State Line, N 86°49′30″ W, 4183.72 feet to Corner 1 of USA Tract U-1601, the POINT OF BEGINNING, containing 112.304 acres more or less, with the bearings, distances and acres here described being as shown on the plat of survey titled “PROPERTY OF LOWELL K. HENSLEY AND BERNICE HENSLEY TO BE CONVEYED TO THE CONSERVATION FUND” as drawn by Addison Surveyors recorded in Deed Book 599, page 591 Grayson County, Virginia Circuit Court Clerk Office.

End of Description

Dated: July 13, 2018.
Gregory C. Smith,
Acting Associate Deputy Chief, National Forest System, U.S. Forest Service.

[FR Doc. 2018-16290 Filed 7-30-18; 8:45 am]

BILLING CODE 3411-15-P